DEPARTMENT OF DEFENSE

Defense Acquisition Regulations System

48 CFR Parts 204, 213, 217, 225, and 249

Defense Federal Acquisition Regulation Supplement; Technical Amendments

AGENCY: Defense Acquisition Regulations System, Department of Defense (DoD).

ACTION: Final rule.

SUMMARY: DoD is making technical amendments to the Defense Federal Acquisition Regulation Supplement (DFARS) to provide needed editorial changes.

DATES: Effective September 19, 2014.

FOR FURTHER INFORMATION CONTACT: Mr. Manuel Quinones, Defense Acquisition Regulations System, OUSD(AT&L)DPAP(DARS), Room 3B941, 3060 Defense Pentagon, Washington, DC 20301-3060. Telephone 571-372-6088; facsimile 571-372-6094.

SUPPLEMENTARY INFORMATION: This final rule amends the DFARS as follows:

1. Directs contracting officers to additional procedures and guidance by adding references at 204.403 and 213.301 to DFARS PGI 204.403(2) and 213.301, respectively.

2. Amends 217.7802 by correcting punctuation at 217.7802(b)(1) and directing contracting officers to additional procedures and guidance at DFARS PGI 217.7802(b)(1)(iii).

3. Corrects the reference to additional procedures and guidance at 225.7703-3 for DFARS PGI 225.7703-3.

4. Amends 249.7000(a)(1) by replacing two telephone numbers with a central email address.

List of Subjects in 48 CFR Parts 204, 213, 217, 225, and 249

Government procurement.

Manuel Quinones,
Editor, Defense Acquisition Regulations System.

Therefore, 48 CFR parts 204, 213, 217, 225, and 249 are amended as follows:

1. The authority citation for 48 CFR parts 204, 213, 217, and 225 continues to read as follows:

Authority: 41 U.S.C. 1303 and 48 CFR chapter 1.

PART 204—ADMINISTRATIVE MATTERS

2. Revise section 204.403 to read as follows:

204.403 Responsibilities of contracting officers.

(1) Contracting officers shall ensure that solicitations comply with PGI 204.403(1).

(2) For additional guidance on determining a project to be fundamental research in accordance with 252.204-7000(a)(3), see PGI 204.403(2).

PART 213—SIMPLIFIED ACQUISITION PROCEDURES

3. Amend section 213.301 by adding the following introductory text:

213.301 Governmentwide commercial purchase card.

Follow the procedures at PGI 213.301 for authorizing, establishing, and operating a Governmentwide commercial purchase card program.

* * * * *

PART 217—SPECIAL CONTRACTING METHODS

4. Amend section 217.7802 by revising paragraph (b)(1) to read as follows:

217.7802 Policy.

* * * * *

(b) * * *

(1) Evaluating whether using a non-DoD contract for the acquisition is in the best interest of DoD. Factors to be considered include:

(i) Satisfying customer requirements.

(ii) Schedule.

(iii) Cost effectiveness (taking into account discounts and fees). In order to ensure awareness of the total cost of fees associated with use of a non-DoD contract, follow the procedures at PGI 217.7802(b)(1)(iii).

(iv) Contract administration (including oversight).

* * * * *

PART 225—FOREIGN ACQUISITION

5. Amend section 225.7703-3 by revising paragraph (d) to read as follows:

225.7703-3 Evaluating offers.

* * * * *

(d) For acquisitions in support of the United States Central Command (USCENTCOM), United States European Command (USEUCOM), United States Africa Command (USAFRICOM), United States Southern Command (USSOUTHCOM), or United States Pacific Command (USPACOM) theater of operations, see PGI 225.7703-3.

PART 249—TERMINATION OF CONTRACTS

6. The authority citation for 48 CFR part 249 is revised to read as follows:

Authority: 41 U.S.C. 1303 and 48 CFR chapter 1.

249.7000 [Amended]

7. Amend section 249.7000, in paragraph (a)(1), by removing “(703) 697-9351, DSN 227-9351” and adding “osd.pentagon.ousd-atl.mbx.cpic@mail.mil” in its place.

[FR Doc. 2014-22370 Filed 9-18-14; 8:45 am]

BILLING CODE 5001-06-P